DEPARTMENT OF HOMELAND SECURITY

Coast Guard

[Docket No. USCG-2024-0043]

Cooperative Research and Development Agreement: REGENT Craft, Inc.

AGENCY: Coast Guard, DHS.

ACTION: Notice of intent; request for comments.

SUMMARY: The Coast Guard is announcing its intent to enter into a Cooperative Research and Development Agreement (CRADA) with REGENT Craft, Inc. (REGENT) to evaluate advancements in Wing-In-Ground (WIG) maritime aircraft for applicability to USCG missions. REGENT's sea gliders are representative of that technology. While the Coast Guard is currently considering partnering with REGENT, we are soliciting public comment on the possible nature of and participation of other parties in the proposed CRADA. In addition, the Coast Guard also invites other potential non-Federal participants, who have the interest and capability to bring similar contributions to this type of research, to consider submitting proposals for consideration in similar CRADAs.

DATES: Comments must be submitted to the online docket via http://www.regulations.gov, or reach the Docket Management Facility, on or before April 15, 2024.

Synopses of proposals regarding future CRADAs must reach the Coast Guard (see FOR FURTHER INFORMATION CONTACT) on or before April 15, 2024.

ADDRESSES: Submit comments online at http://www.regulations.gov following website instructions.

FOR FURTHER INFORMATION CONTACT: If you have questions on this notice or wish to submit proposals for future CRADAs, contact Jason Story, Project Official, Rapid Reaction Branch, U.S. Coast Guard Research and Development Center, 1 Chelsea Street, New London, CT 06320, telephone 860-271-2833, email jason.m.story@uscg.mil.

SUPPLEMENTARY INFORMATION:

Public Participation and Request for Comments

We request public comments on this notice. Although we do not plan to respond to comments in the Federal Register, we will respond directly to commenters and may modify our proposal in light of comments.

Comments should be marked with docket number USCG-2024-0043 and should provide a reason for each suggestion or recommendation. You should provide personal contact information so that we can contact you if we have questions regarding your comments; but please note that all comments will be posted to the online docket without change and that any personal information you include can be searchable online (see the Federal Register Privacy Act notice regarding our public dockets, 73 FR 3316, Jan. 17, 2008). We also accept anonymous comments.

We encourage you to submit comments through the Federal eRulemaking Portal at http://www.regulations.gov. If your material cannot be submitted using http://www.regulations.gov, contact the Coast Guard (see FOR FURTHER INFORMATION CONTACT). Documents mentioned in this notice, and all public comments, are in our online docket at http://www.regulations.gov and can be viewed by following that website's instructions. Additionally, if you go to the online docket and sign up for email alerts, you will be notified when comments are posted or a final rule is published.

Do not submit detailed proposals for future CRADAs to the Docket Management Facility. Instead, submit them directly to the Coast Guard (see FOR FURTHER INFORMATION CONTACT).

Discussion

CRADAs are authorized under 15 U.S.C. 3710(a).¹ A CRADA promotes the transfer of technology to the private sector for commercial use, as well as specified research or development efforts that are consistent with the mission of the Federal parties to the CRADA. The Federal party or parties agree with one or more non-Federal parties to share research resources, but the Federal party does not contribute funding.

¹ The statute confers this authority on the head of each Federal agency. The Secretary of DHS's authority is delegated to the Coast Guard and other DHS organizational elements by DHS Delegation No. 0160.1, para. II.B.34.

CRADAs are not procurement contracts. Care is taken to ensure that CRADAs are not used to circumvent the contracting process. CRADAs have a specific purpose and should not be confused with procurement contracts, grants, and other type of agreements.

Under the proposed CRADA, the R&D Center will collaborate with one non-Federal participant. Together, the R&D Center and the non-Federal participant will conduct sea glider evaluations to determine the system's applicability to USCG missions.

We anticipate that the Coast Guard's contributions under the proposed CRADA will include the following:

(1) Collaborate with REGENT Craft Inc. to co-design specific operational and safety test scenarios, bringing in real-world maritime expertise;

(2) Provide information regarding the USCG's interest in the WIG technology needed for creating the Test Plan;

(3) Provide all support resources, including travel, for Coast Guard staff that supports this CRADA;

(4) Provide personnel support to non-Federal participant to assist with setting up and execute testing in accordance with the agreed upon Test Plan;

(5) Work with non-Federal participant to develop a Final Report, which will document the methodologies, findings, conclusions, and recommendations of this CRADA work.

We anticipate that the non-Federal participants' contributions under the proposed CRADA will include the following:

(1) Provide appropriate staff with pertinent expertise to support the above mentioned tasks;

(2) Provide all necessary facilities and sea glider resources needed to conduct the evaluations as outlined in the Test Plan;

(3) Provide technical approach for the Test Plan;

(4) Provide test data upon completion of testing.

The Coast Guard reserves the right to select for CRADA participants all, some, or no proposals submitted for this CRADA. The Coast Guard will provide no funding for reimbursement of proposal development costs. Proposals and any other material submitted in response to this notice will not be returned. Proposals submitted are expected to be unclassified and have not more than five single-sided pages (excluding cover page, DD 1494, JF-12, etc.). The Coast Guard will select proposals at its sole discretion on the basis of:

(1) How well they communicate an understanding, of and ability to meet, the proposed CRADA's goal; and

(2) How well they address the following criteria:

(a) Technical capability to support the non-Federal party contributions described, and

(b) Resources available for supporting the non-Federal party contributions described.

Currently, the Coast Guard is considering REGENT for participation in this CRADA. This consideration is based on the fact that REGENT has demonstrated its sea gliders and availability of appropriate facilities to execute test scenarios. However, we do not wish to exclude other viable participants from this or future similar CRADAs.

This is a technology assessment effort. The goal of the Coast Guard for this CRADA is to determine the applicability of this type of vessel to the Coast Guard's missions. Special consideration will be given to small business firms/consortia, and preference will be given to business units located in the U.S. This notice is issued under the authority of 5 U.S.C. 552(a).

Dated: February 29, 2024.
Michael Chien,
Captain, USCG, Commanding Officer, U.S. Coast Guard Research and Development Center.

[FR Doc. 2024-05537 Filed 3-14-24; 8:45 am]

BILLING CODE 9110-04-P